DEPARTMENT OF LABOR

Employment and Training Administration

[TA-W-50,080 and TA-W-50,080A]

VF Jeanswear Limited Partnership, A Subsidiary of VF Corporation, Pine Springs Facility, El Paso, TX; VF Jeanswear Limited Partnership, A Subsidiary of VF Corporation, Plaza Facility, El Paso, TX; Notice of Termination of Investigation

Pursuant to Section 221 of the Trade Act of 1974, as amended, an investigation was initiated on November 14, 2002 in response to a worker petition filed by a company official on behalf of workers at VF Jeanswear Limited Partnership, Pine Springs Facility, El Paso, Texas (TA-W-50,080) and VF Jeanswear Limited Partnership, a subsidiary of VF Corporation, Plaza Facility, El Paso, Texas (TA-W-50,080A).

The petitioning group of workers is covered by an active certification issued on February 11, 2002 and which remains in effect (TA-W-40,737). Consequently, further investigation in this case would serve no purpose, and the investigation has been terminated.

Signed at Washington, DC, this 2nd day of December, 2002
Linda G. Poole,
Certifying Officer, Division of Trade Adjustment Assistance.

[FR Doc. 02-32231 Filed 12-20-02; 8:45 am]

BILLING CODE 4510-30-P